DEPARTMENT OF THE INTERIOR

National Park Service

[NPS-WASO-NAGPRA-NPS0034196; PPWOCRADN0-PCU00RP14.R50000]

Notice of Inventory Completion: U.S. Department of Agriculture, Forest Service, Pacific Southwest Research Station, Albany, CA

AGENCY: National Park Service, Interior.

ACTION: Notice.

SUMMARY: The U.S. Department of Agriculture, Forest Service, Pacific Southwest Research Station, has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Pacific Southwest Research Station. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Pacific Southwest Research Station at the address in this notice by August 15, 2022.

ADDRESSES: Jeff Irwin, Heritage Program Manager, Sierra National Forest, 29688 Auberry Road, Prather, CA 93651, telephone (559) 855-5355 Ext. 3335, email jeffrey.irwin@usda.gov.

SUPPLEMENTARY INFORMATION: Notice is here given in accordance with the Native American Graves Protection and Repatriation Act (NAGPRA), 25 U.S.C. 3003, of the completion of an inventory of human remains and associated funerary objects under the control of the U.S. Department of Agriculture, Forest Service, Pacific Southwest Research Station, Albany, CA, and in the physical custody of Fresno City College, Fresno, CA. The human remains and associated funerary objects were removed from site CA-MAD-546, located on the San Joaquin Experimental Range, Madera County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by Fresno City College (FCC) and Forest Service professional staff in consultation with representatives of the Big Sandy Rancheria of Western Mono Indians of California (previously listed as Big Sandy Rancheria of Mono Indians of California); Buena Vista Rancheria of Me-Wuk Indians of California; Cold Springs Rancheria of Mono Indians of California; Middletown Rancheria of Pomo Indians of California; Northfork Rancheria of Mono Indians of California; Picayune Rancheria of Chukchansi Indians of California; Santa Rosa Indian Community of the Santa Rosa Rancheria, California; Shingle Springs Band of Miwok Indians, Shingle Springs Rancheria (Verona Tract), California; Table Mountain Rancheria (previously listed as Table Mountain Rancheria of California); Tejon Indian Tribe; Tule River Indian Tribe of the Tule River Reservation, California; and the Tuolumne Band of Me-Wuk Indians of the Tuolumne Rancheria of California. In addition, the California Valley Miwok Tribe, California; Chicken Ranch Rancheria of Me-Wuk Indians of California; Fort McDermitt Paiute and Shoshone Tribes of the Fort McDermitt Indian Reservation, Nevada and Oregon; Ione Band of Miwok Indians of California; and the Jackson Band of Miwuk Indians (previously listed as Jackson Rancheria of Me-Wuk Indians of California) were invited to consult, but did not participate. Hereafter, all the Indian Tribes listed in this section are referred to as “The Consulted Tribes.”

History and Description of the Remains

Between 1986 and 1990, human remains representing, at minimum, four individuals were removed by Don Wren of Fresno Community College from site CA-MAD-546 on the San Joaquin Experimental Range in Madera County, CA. The excavations were part of an archeological field school led by Wren. In January of 2017, an osteological examination of faunal collections curated at FCC was conducted to determine if human remains were present. That examination resulted in the identification of the human remains listed in this notice. All the human remains are fragmentary. A total of 79 bone fragments and teeth, representing a minimum of four individuals, were identified. No known individuals were identified. The 136 associated funerary objects include 117 beads (19 glass, 44 shell, 51 steatite, one bone, two unknown), 12 steatite sherds, one steatite ring fragment, and six unmodified steatite fragments.

Site CA-MAD-546 lies in the lower foothills of lands managed by the Forest Service, in an area well-documented ethnographically as the territory of foothill Yokuts peoples and situated in proximity to the traditional territory and contemporary land of the Picayune Rancheria of Chukchansi Indians of California. It includes features and artifacts indicative of late-precontact through late 19th century indigenous occupation.

Determinations Made by the U.S. Department of Agriculture, Forest Service, Pacific Southwest Research Station

Officials of the U.S. Department of Agriculture, Forest Service, Pacific Southwest Research Station have determined that:

• Pursuant to 25 U.S.C. 3001(9), the human remains described in this notice represent the physical remains of four individuals of Native American ancestry.

• Pursuant to 25 U.S.C. 3001(3)(A), the 136 objects described in this notice are reasonably believed to have been placed with or near individual human remains at the time of death or later as part of the death rite or ceremony.

• Pursuant to 25 U.S.C. 3001(2), there is a relationship of shared group identity that can be reasonably traced between the Native American human remains and associated funerary objects and the Picayune Rancheria of Chukchansi Indians of California.

Additional Requestors and Disposition

Lineal descendants or representatives of any Indian Tribe or Native Hawaiian organization not identified in this notice that wish to request transfer of control of these human remains and associated funerary objects should submit a written request with information in support of the request to Jeff Irwin, Heritage Program Manager, Sierra National Forest, 29688 Auberry Road, Prather, CA 93651, telephone (559) 855-5355 Ext. 3335, email jeffrey.irwin@usda.gov, by August 15, 2022. After that date, if no additional requestors have come forward, transfer of control of the human remains and associated funerary objects to the Picayune Rancheria of Chukchansi Indians of California may proceed.

The U.S. Department of Agriculture, Forest Service, Pacific Southwest Research Station is responsible for notifying The Consulted Tribes that this notice has been published.

Dated: July 6, 2022.
Melanie O'Brien,
Manager, National NAGPRA Program.

[FR Doc. 2022-15043 Filed 7-13-22; 8:45 am]

BILLING CODE 4312-52-P